DEPARTMENT OF TRANSPORTATION

Federal Railroad Administration

49 CFR Part 225

[Docket No. FRA-2006-26173, Notice No. 2]

RIN 2130-AB82

Miscellaneous Amendments to the Federal Railroad Administration's Accident/Incident Reporting Requirements

AGENCY: Federal Railroad Administration (FRA), Department of Transportation (DOT).

ACTION: Notice of public hearing and extension of comment period.

SUMMARY: By notice of proposed rulemaking (NPRM) published on September 9, 2008 (73 FR 52496), FRA proposed revisions to its regulations governing railroad accident/incident recording and reporting. This document announces a public hearing to provide interested parties the opportunity to comment on the NPRM and announces a thirty (30) day extension of the comment period, which closed November 10, 2008, to commence on the date of the public hearing. This extension provides interested parties the opportunity to comment on the NPRM and to respond to matters that arise at the public hearing related to the NPRM.

DATES: (1) Public Hearing: A public hearing will be held on the date and at the location listed below to provide interested parties the opportunity to comment on the proposed revisions contained in the NPRM. A thirty (30) day extension of the comment period will commence on the date of the hearing. The date of the public hearing is as follows:

Thursday, December 18, 2008, at 8:30 a.m. in Washington, DC.

(2) Extension of Comment Period: The comment period will reopen Thursday, December 18, 2008 and written comments must be received by Friday, January 16, 2009. Comments received after that date will be considered to the extent possible without incurring additional expenses or delays.

ADDRESSES: (1) Public Hearing: The public hearing will be held at the following location:

Washington, DC: Four Points by Sheraton, 1201 K Street, NW., Washington, DC 20005.

(2) Extension of Comment Period: Comments related to Docket No. FRA-2006-26173, may be submitted by any of the following methods:

1. Web site: Comments should be filed at the Federal eRulemaking Portal, http://www.regulations.gov. Follow the Web site's online instructions for submitting comments.

2. Fax: 202-493-2251.

3. Mail: U.S. Department of Transportation, Docket Operations, M-30, West Building Ground Floor, Room W12-140, 1200 New Jersey Avenue, SE., W12-140, Washington, DC 20590.

4. Hand Delivery: Room W12-140 on the Ground level of the West Building, 1200 New Jersey Avenue, SE., Washington, DC between 9 a.m. and 5 p.m. Monday through Friday, except Federal holidays.

(3) Public Hearing Participants: Written notification of intent to participate in the public hearing and copies of oral statements must be submitted to the FRA Docket Clerk at FRA Docket Clerk, Office of Chief Counsel, Federal Railroad Administration, 1200 New Jersey Avenue, SE., W12-140, Washington, DC 20590 or faxed to (202) 493-2251.

FOR FURTHER INFORMATION CONTACT: Arnel B. Rivera, Staff Director, U.S. Department of Transportation, Federal Railroad Administration, Office of Safety Analysis, RRS-22, Mail Stop 25, Federal Railroad Administration, 1200 New Jersey, SE., Washington, DC 20590 (telephone 202-493-1331); or Gahan Christenson, Trial Attorney, Office of Chief Counsel, Mail Stop 10, Federal Railroad Administration, 1200 New Jersey, SE., Washington, DC 20590 (telephone 202-493-1381).

SUPPLEMENTARY INFORMATION: FRA has received written comments submitted by interested parties related to various parts of the NPRM and a written request for a hearing on the NPRM. The purpose of the public hearing is to permit the exchange of information and concerns regarding FRA's proposed amendments. The public hearing is meant to allow interested parties to fully develop and articulate the issues and concerns they have with the NPRM so that these concerns can be fully addressed in any final rule that is developed. Interested parties are invited to present oral statements and proffer evidence at the hearing. The hearing will be informal and will be conducted by a representative designated by FRA in accordance with FRA's Rules of Practice (49 CFR 211.25). The hearing will be non-adversarial proceeding; therefore, there will be no cross examination of persons presenting statements or proffering evidence. An FRA representative will make an opening statement outlining the scope of the hearing. After all initial statements have been completed, those persons wishing to make a brief rebuttal will be given the opportunity to do so in the same order in which the initial statements were made. Additional procedures, as necessary for the conduct of the hearing, will be announced at the hearing.

On December 18, 2008, the comment period for the NPRM will reopen for thirty (30) days so that the FRA can make the public hearing transcript available for review and comment by the general public, interested parties can provide additional comments and documents related to the NPRM, and interested parties can provide responses to matters that arise at the public hearing.

Public Participation Procedures

Any person wishing to participate in the public hearing should notify the FRA Docket Clerk by mail at the address or by fax at the number provided in the ADDRESSES section at least five (5) working days prior to the date of the hearing and submit three copies of the oral statement that he or she intends to make at the proceeding. The notification should identify the party the person represents, and the particular subject(s) the person plans to address. The notification should also provide the FRA Docket Clerk with the participant's mailing address and other contact information. FRA reserves the right to limit participation in the hearings of persons who fail to provide such notification.

Privacy Act

FRA wishes to inform all potential commenters that anyone is able to search the electronic form of all comments received into any agency docket by the name of the individual submitting the comment (or signing the comment, if submitted on behalf of an association, business, labor union, etc.). You may review DOT's complete Privacy Act Statement in the Federal Register published on April 11, 2000 (Volume 65, Number 70; Pages 19477-78) or you may visit http://dms.dot.gov.

Issued in Washington, DC, on November 24, 2008.
Grady C. Cothen, Jr.,
Deputy Associate Administrator for Safety Standards and Program Development.

[FR Doc. E8-28443 Filed 11-26-08; 8:45 am]

BILLING CODE 4910-06-P